DEPARTMENT OF ENERGY

Office of Science; DOE/NSF Nuclear Science Advisory Committee

AGENCY: Department of Energy.

ACTION: Notice of open meeting.

SUMMARY: This notice announces a meeting of the DOE/NSF Nuclear Science Advisory Committee (NSAC). Federal Advisory Committee Act (Pub. L. 92-463, 86 Stat. 770) requires that public notice of these meetings be announced in the Federal Register.

DATES: Thursday, July 26, 2007; 8 a.m. to 5 p.m.

ADDRESSES: Radisson Hotel Reagan National Airport, 2020 Jefferson Davis Highway, Arlington, VA 22202.

FOR FURTHER INFORMATION CONTACT: Brenda L. May, U.S. Department of Energy; SC-26/Germantown Building, 1000 Independence Avenue, SW., Washington, DC 20585-1290; Telephone: 301-903-0536.

SUPPLEMENTARY INFORMATION: Purpose of Meeting: To provide advice and guidance on a continuing basis to the Department of Energy and the National Science Foundation on scientific priorities within the field of basic nuclear science research.

Tentative Agenda: Agenda will include discussions of the following:

Thursday, July 26, 2007

• Perspectives from Department of Energy and National Science Foundation

• Presentation of the Neutrino Scientific Assessment Group Subcommittee Report

• Discussion of Rare Isotope Beam (RIB) Task Force Report

• Update from the Performance Measures Subcommittee

• Reports on the Long Range Plan Writing Progress

• Public Comment (10-minute rule)

Public Participation: The meeting is open to the public. If you would like to file a written statement with the Committee, you may do so either before or after the meeting. If you would like to make oral statements regarding any of these items on the agenda, you should contact Brenda L. May, 301-903-0536 or Brenda.May@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: The NSAC will prepare meeting minutes within 45 days of the meeting. The minutes will be posted on the NSAC Web site at http://www.sc.doe.gov/np/nsac/nsac.html.

Issued at Washington, DC on June 27, 2007.
Rachel Samuel,
Deputy Advisory Committee Management Officer.

[FR Doc. E7-12839 Filed 7-2-07; 8:45 am]

BILLING CODE 6450-01-P